GENERAL SERVICES ADMINISTRATION

48 CFR Parts 537 and 552

[GSAR Case 2008-G510; Docket 2008-0007; Sequence 4]

RIN 3090-AI54

General Services Acquisition Regulation; GSAR Case 2008-G510; Rewrite of GSAR Part 537, Service Contracting

AGENCY: Office of the Chief Acquisition Officer, General Services Administration (GSA).

ACTION: Proposed rule.

SUMMARY: The General Services Administration (GSA) is proposing to amend the General Services Acquisition Regulation (GSAR) to revise sections of the GSAR that pertains to requirements for service contracting.

DATES: Interested parties should submit written comments to the Regulatory Secretariat on or before August 5, 2008 to be considered in the formulation of a final rule.

ADDRESSES: Submit comments identified by GSAR Case 2008-G510 by any of the following methods:

• Regulations.gov: http://www.regulations.gov. Submit comments via the Federal eRulemaking portal by inputting “GSAR Case 2008-G510” under the heading “Comment or Submission”. Select the link “Send a Comment or Submission” that corresponds with GSAR Case 2008-G510. Follow the instructions provided to complete the “Public Comment and Submission Form”. Please include your name, company name (if any), and “GSAR Case 2008-G510” on your attached document.

• Fax: 202-501-4067.

• Mail: General Services Administration, Regulatory Secretariat (VPR), 1800 F Street, NW, Room 4041, ATTN: Laurieann Duarte, Washington, DC 20405.

Instructions: Please submit comments only and cite GSAR Case 2008-G510 in all correspondence related to this case. All comments received will be posted without change to http://www.regulations.gov, including any personal and/or business confidential information provided.

FOR FURTHER INFORMATION CONTACT For clarification of content, contact Mr. Michael O. Jackson at (202) 208-4949. For information pertaining to the status or publication schedules, contact the Regulatory Secretariat (VPR), Room 4041, GS Building, Washington, DC 20405, (202) 501-4755. Please cite GSAR Case 2008-G510.

SUPPLEMENTARY INFORMATION:

A. Background

The General Services Administration (GSA) is amending the General Services Administration Acquisition Regulation (GSAR) to revise sections of GSAR Part 537 that provide requirements for service contracting.

This rule is a result of the General Services Administration Acquisition Manual (GSAM) rewrite initiative undertaken by GSA to revise the GSAM to maintain consistency with the FAR and to implement streamlined and innovative acquisition procedures that contractors, offerors, and GSA contracting personnel can utilize when entering into and administering contractual relationships. The GSAM incorporates the General Services Administration Acquisition Regulation (GSAR) as well as internal agency acquisition policy.

GSA will rewrite each part of the GSAR and GSAM, and as each GSAR part is rewritten, will publish it in the Federal Register.

This rule covers the rewrite of GSAR Part 537. The rule revises 537 to address the text at GSAR 537.101, Definitions; 537.110 Solicitation provisions and contract clauses; provision 552.237-70, Qualifications of Offerors; and clause 552.237-73, Restriction on Disclosure of Information. The language in 537.101, Definitions, is removed from inclusion in the GSAR. This language clarifies the definition for “contracts for building services” for contracting officers, therefore this language is being incorporated as non-regulatory GSAM language. GSAR clauses 552.237-71, Qualifications of Employees and 552.237-72, Prohibition Regarding “Quasi-Military Armed Forces” are retained with no changes.

Discussion of Comments

There were no public comments received in response to the Advanced Notice of Proposed Rulemaking.

This is not a significant regulatory action and, therefore, was not subject to review under Section 6(b) of Executive Order 12866, Regulatory Planning and Review, dated September 30, 1993. This rule is not a major rule under 5 U.S.C. 804.

B. Regulatory Flexibility Act

The General Services Administration does not expect this proposed rule to have a significant economic impact on a substantial number of small entities within the meaning of the Regulatory Flexibility Act, 5 U.S.C. 601, et seq., because the revisions are not considered substantive. The revisions only update and reorganize existing coverage. An Initial Regulatory Flexibility Analysis has, therefore, not been performed. We invite comments from small businesses and other interested parties. GSA will consider comments from small entities concerning the affected GSAR Parts 537 and 552 in accordance with 5 U.S.C. 610. Interested parties must submit such comments separately and should cite 5 U.S.C. 601, et seq. (GSAR case 2008-G510), in all correspondence.

C. Paperwork Reduction Act

The Paperwork Reduction Act does apply; however, these changes to the GSAR do not impose additional information collection requirements to the paperwork burden previously approved under OMB Control Number 3090-0027.

List of Subjects in 48 CFR Parts 537 and 552

Government procurement.

Dated: May 30, 2008.
Al Matera,
Director, Office of Acquisition Policy.

Therefore, GSA proposes to amend 48 CFR parts 537 and 552 as set forth below:

1. The authority citation for 48 CFR parts 537 and 552 continues to read as follows:

Authority: 40 U.S.C. 121(c).

PART 537—SERVICE CONTRACTING

537.101 [Removed]

2. Remove section 537.101.

537.110 [Amended]

3. Amend section 537.110 by removing from paragraph (a) “initiated” and adding “initiated with Ability One” in its place.

PART 552—SOLICITATION PROVISIONS AND CONTRACT CLAUSES

552.237-70 [Amended]

4. Amend section 552.237-70 by revising the date of the provision to read “(Date)”; and removing from paragraph (a) “In order to” and adding “To” in its place.

552.237-73 [Amended]

5. Amend 552.237-73 by revising the date of the clause to read “(Date)”; and removing from paragraph (b) “individual” and adding “entity” in its place.

[FR Doc. E8-12571 Filed 6-5-08; 8:45 am]

BILLING CODE 6820-61-S